DEPARTMENT OF VETERANS AFFAIRS

Gulf War Veterans' Illnesses Task Force Report

AGENCY: Department of Veterans Affairs.

ACTION: Notice.

SUMMARY: The Secretary Department of Veterans Affairs (VA) established the Gulf War Veterans' Illnesses Task Force (GWVI-TF) in August 2009 to conduct a comprehensive review of VA policies and programs addressing 1990-1991 Gulf War Veterans' illnesses. The GWVI-TF published its first annual report in September 2010.

The GWVI-TF posted a draft of its 2011 annual report for public comment on October 20, 2011. VA published the report in the Federal Register (76 FR 65321) and posted it on a social media Web site created specifically to elicit responses on the report. VA collected comments through both venues. During the thirty day comment period, VA received twenty-five comments submitted through the Federal Register venue and over 450 comments from over 500 registered users through the social media Web site. VA sincerely thanks all those who took the time to submit comments.

VA has completed its 2011 Gulf War Veterans' Illnesses Task Force Report. The GWVI-TF reviewed all the comments submitted and addressed in this report those comments that were directly responsive to the report. Comments specifically addressed in this report are annotated accordingly. The comments that were not directly responsive to the report will serve as guidance for the GWVI-TF to consider as it moves forward.

Finally, there were a number of individual requests for assistance. Those that contained sufficient specific information were referred to appropriate VA offices for action. Those that were not specific enough or were anonymously submitted will serve as background for consideration on areas for the GWVI-TF to study in the future.

ADDRESSES: The 2011 Gulf War Veterans' Illnesses Task Force Report is available on the VA Web site at: http://www.va.gov/opa/publications/2011_GWVI-TF_Report.pdf.

FOR FURTHER INFORMATION CONTACT: John Kent, GWVI-TF Secretary, OSVA, Department of Veterans Affairs, 810 Vermont Avenue NW., Washington, DC 20420, at (202) 461-4814.

Approved: March 22, 2012.
John R. Gingrich,
Chief of Staff, Department of Veterans Affairs.

[FR Doc. 2012-7355 Filed 3-26-12; 8:45 am]

BILLING CODE 8320-01-P